DEPARTMENT OF ENERGY

Federal Energy Regulatory Commission

Combined Notice of Filings #1

Take notice that the Commission received the following electric corporate filings:

Docket Numbers: EC22-121-000.

Applicants: BigBeau Solar, LLC.

Description: Application for Authorization Under Section 203 of the Federal Power Act of BigBeau Solar, LLC.

Filed Date: 9/16/22.

Accession Number: 20220916-5307.

Comment Date: 5 p.m. ET 10/7/22.

Take notice that the Commission received the following exempt wholesale generator filings:

Docket Numbers: EG22-224-000.

Applicants: GulfStar Power, LLC.

Description: GulfStar Power, LLC submits Notice of Self-Certification of Exempt Wholesale Generator Status.

Filed Date: 9/19/22.

Accession Number: 20220919-5112.

Comment Date: 5 p.m. ET 10/11/22.

Take notice that the Commission received the following Complaints and Compliance filings in EL Dockets:

Docket Numbers: EL22-88-000.

Applicants: Duke Energy Florida, LLC.

Description: Petition for Declaratory Order of Duke Energy Florida, LLC.

Filed Date: 9/13/22.

Accession Number: 20220913-5158.

Comment Date: 5 p.m. ET 10/13/22.

Take notice that the Commission received the following electric rate filings:

Docket Numbers: ER19-289-008; ER19-2462-006; ER19-2264-002.

Applicants: Northern Indiana Public Service Company LLC, Macquarie Energy LLC, Cleco Cajun LLC.

Description: Triennial Market Power Analysis for the Northwest Region of Cleco Cajun LLC, et al.

Filed Date: 6/30/22.

Accession Number: 20220630-5331.

Comment Date: 5 p.m. ET 11/18/22.

Docket Numbers: ER22-2880-000.

Applicants: PJM Interconnection, L.L.C.

Description: § 205(d) Rate Filing: Original WMPA, SA No. 6597; Queue No. AF2-294 to be effective 8/19/2022.

Filed Date: 9/19/22.

Accession Number: 20220919-5054.

Comment Date: 5 p.m. ET 10/11/22.

Docket Numbers: ER22-2881-000.

Applicants: California Independent System Operator Corporation.

Description: § 205(d) Rate Filing: 2022-09-19 Energy Storage Bid Cost Recovery to be effective 9/20/2022.

Filed Date: 9/19/22.

Accession Number: 20220919-5056.

Comment Date: 5 p.m. ET 10/11/22.

Docket Numbers: ER22-2882-000.

Applicants: PacifiCorp.

Description: § 205(d) Rate Filing: DG&T Const Agmt Bonanza Solar Resource Model to be effective 11/19/2022.

Filed Date: 9/19/22.

Accession Number: 20220919-5059.

Comment Date: 5 p.m. ET 10/11/22.

Docket Numbers: ER22-2883-000.

Applicants: Western Interconnect LLC.

Description: Compliance filing: Order 881 Compliance Filing to be effective 7/12/2022.

Filed Date: 9/19/22.

Accession Number: 20220919-5072.

Comment Date: 5 p.m. ET 10/11/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 19, 2022.
Debbie-Anne A. Reese,
Deputy Secretary.

[FR Doc. 2022-20650 Filed 9-22-22; 8:45 am]

BILLING CODE 6717-01-P